DEPARTMENT OF HOUSING AND URBAN DEVELOPMENT

[Docket No. FR-7098-N-04; OMB Control No.: 2502-0562]

60-Day Notice of Proposed Information Collection: Manufactured Housing Dispute Resolution

AGENCY: Office of the Assistant Secretary for Housing—Federal Housing Commissioner, Department of Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 28, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Darian Ziegler, PRA Liaison, Department of Housing and Urban Development, 451 7th Street SW, Room 9139-37, Washington, DC 20410-5000.

FOR FURTHER INFORMATION CONTACT: Darian Ziegler, PRA Liaison, Office of Housing, Department of Housing and Urban Development, 451 7th Street SW, Room 9139-37, Washington, DC 20410; email darian.ziegler@hud.gov, or telephone (202) 402-4144. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Manufactured Housing Dispute Resolution.

OMB Approval Number: 2502-0562.

Type of Request: Extension of currently approved collection.

Form Number: HUD 310-DRSC; HUD 311-DR.

Description of the need for the information and proposed use: The HUD certified state programs and those states desirous of certification will file form HUD-310-DRSC. HUD uses the information on state certifications to determine whether the state programs comply with the minimum requirements set out in the regulations. The information is retained by HUD until it receives a subsequent certification form, due every three years for recertification of certain states that do not have their dispute resolution program included in their state plan. This is a required form.

Homeowners and industry respondents will use form HUD-311-DR. HUD uses the required information for screening that a defect is properly alleged and timely reported under the Federal manufactured housing dispute resolution program. The information is retained for three years after the dispute has been resolved. This is a required form.

Respondents: States, homeowners, and industry respondents.

Estimated Number of Respondents: 33.

Estimated Number of Responses: 33.

Frequency of Response: HUD-DR-310 tri-annually; HUD-DR-311 as needed throughout the year by manufactured homeowners and industry respondents.

Average Hours per Response: 1 hour.

Total Estimated Burdens: $1,950.00.

Estimated Annualized Burden Hours and Costs:

BILLING CODE 4210-67-P

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 2 of the Paperwork Reduction Act of 1995, 44 U.S.C. 3507.

Vance T. Morris,
Associate General Deputy Assistant Secretary for Housing.

[FR Doc. 2025-16596 Filed 8-28-25; 8:45 am]

BILLING CODE 4210-67-C